ENVIRONMENTAL PROTECTION AGENCY

[FRL-11456-01-OA]

Science Advisory Board Environmental Justice Science and Analysis Review Panel; Nominations Request

AGENCY: Environmental Protection Agency (EPA).

ACTION: Notice.

SUMMARY: The Environmental Protection Agency (EPA) Science Advisory Board (SAB) Staff Office requests public nominations of scientific experts to form a panel to review the revised Technical Guidance for Assessing Environmental Justice in Regulatory Analysis (Environmental Justice Technical Guidance or EJTG) and develop a self-initiated commentary outlining recommendations on advancing environmental justice science in rulemaking. The SAB Environmental Justice Science and Analysis Review Panel will review the revised EJTG to be released publicly in 2023, as well as other information to be provided by the EPA. The Panel will provide recommendations and expert input on both advisory activities.

DATES: Nominations should be submitted by November 13, 2023 per the instructions below.

FOR FURTHER INFORMATION CONTACT: Any member of the public wishing further information regarding this Notice and the request for nominations may contact Dr. Suhair Shallal, Designated Federal Officer (DFO), EPA Science Advisory Board Staff Office by telephone/voice mail (202) 564-2057, or email at shallal.suhair@epa.gov. General information concerning the EPA SAB can be found at the EPA SAB website at https://sab.epa.gov.

SUPPLEMENTARY INFORMATION:

Background: The SAB (42 U.S.C. 4365) is a chartered Federal Advisory Committee that provides independent scientific and technical peer review, advice, and recommendations to the EPA Administrator on the technical basis for EPA actions. As a Federal Advisory Committee, the SAB conducts business in accordance with the Federal Advisory Committee Act (FACA) (5 U.S. Code 10) and related regulations. The SAB Staff Office is forming an expert panel, the Environmental Justice Science and Analysis Review Panel, under the auspices of the Chartered SAB. The Environmental Justice Science and Analysis Review Panel will provide advice through the chartered SAB. The SAB and the Environmental Justice Science and Analysis Review Panel will comply with the provisions of FACA and all appropriate SAB Staff Office procedural policies.

The SAB Environmental Justice Science and Analysis Review Panel will conduct a review of the revised Technical Guidance for Assessing Environmental Justice in Regulatory Analysis (Environmental Justice Technical Guidance or EJTG) and develop a self-initiated commentary outlining recommendations on advancing environmental justice science in rulemaking. The SAB Environmental Justice Science and Analysis Review Panel will consider the revised EJTG as well as other information to be provided by the EPA. The Panel will provide recommendations and expert input on both advisory activities.

The revised EJTG is a document that provides EPA analysts with broad guidance on how to assess disproportionate and adverse human health and environmental impacts of proposed rules and actions on vulnerable and overburdened populations in a variety of regulatory contexts. The 2016 EJ Technical Guidance was peer reviewed by the SAB in 2014. EPA is currently revising the EJ Technical Guidance, that will be released publicly in late 2023. The Panel will also identify key findings about the current state of environmental justice science utilized across EPA in the context of regulations and develop a commentary with actionable recommendations for potential methodological and technical improvements of environmental justice analyses utilized to support regulatory actions.

Request for Nominations: The SAB Staff Office is seeking nominations of nationally and internationally recognized scientists with demonstrated expertise in the following disciplines: environmental exposure, fate and transport, human health risk assessment, toxicology, public health, social and behavioral sciences, data visualization, environmental justice screening tools and modeling; environmental pollution and/or contaminants; environmental economics, including cost-benefit analysis; sociology; environmental stressors; exposure and dose-response assessment; epidemiology; demographics; geospatial analyses; spatial mathematics or distributional analysis; decision-making science; statistics; traditional ecological knowledge, and risk communication. Specifically, we are seeking experts with experience in assessing impacts related to environmental justice concerns, and conducting scientific analyses conducted to inform regulatory impacts. Strongest consideration will be given to individuals with demonstrated experience working with overburdened and vulnerable communities, or communities with EJ concerns in addition to the disciplines listed above (as documented in their curriculum vitae, resume, and/or publication history).

Process and Deadline for Submitting Nominations: Any interested person or organization may nominate qualified individuals in the areas of expertise described above for possible service on the SAB Panel. Individuals may self-nominate. Nominations should be submitted in electronic format (preferred) using the online nomination form on the SAB website at https://sab.epa.gov (see the “Public Input on Membership” list under “Committees, Panels, and Membership” following the instructions for “Nominating Experts to Advisory Panels and Ad Hoc Committees Being Formed,” provided on the SAB website (see the “Nomination of Experts” link under “Current Activities” at https://sab.epa.gov). To be considered, nominations should include the information requested below. EPA values and welcomes diversity. All qualified candidates are encouraged to apply regardless of sex, race, disability, or ethnicity. Nominations should be submitted in time to arrive no later than November 13, 2023.

The following information should be provided on the nomination form: contact information for the person making the nomination; contact information for the nominee; and the disciplinary and specific areas of expertise of the nominee. Nominees will be contacted by the SAB Staff Office and will be asked to provide a recent curriculum vitae and a narrative biographical summary that includes current position, educational background; research activities; sources of research funding for the last two years; and recent service on other national advisory committees or national professional organizations. Persons having questions about the nomination procedures, or who are unable to submit nominations through the SAB website, should contact the DFO at the contact information noted above. The names and biosketches of qualified nominees identified by respondents to this Federal Register Notice, and additional experts identified by the SAB Staff Office, will be posted in a List of Candidates for the Panel on the SAB website at https://sab.epa.gov. Public comments on the List of Candidates will be accepted for 21 days. The public will be requested to provide relevant information or other documentation on nominees that the SAB Staff Office should consider in evaluating candidates.

For the EPA SAB Staff Office, a balanced review panel includes candidates who possess the necessary domains of knowledge, the relevant scientific perspectives (which, among other factors, can be influenced by work history and affiliation), and the collective breadth of experience to adequately address the charge. In forming the expert panel, the SAB Staff Office will consider public comments on the Lists of Candidates, information provided by the candidates themselves, and background information independently gathered by the SAB Staff Office. Selection criteria to be used for panel membership include: (a) scientific and/or technical expertise, knowledge, and experience (primary factors); (b) availability and willingness to serve; (c) absence of financial conflicts of interest; (d) absence of an appearance of a loss of impartiality; (e) skills working in committees, subcommittees and advisory panels; and (f) for the panel as a whole, diversity of expertise and scientific points of view.

The SAB Staff Office's evaluation of an absence of financial conflicts of interest will include a review of the “Confidential Financial Disclosure Form for Environmental Protection Agency Special Government Employees” (EPA Form 3110-48). This confidential form is required and allows government officials to determine whether there is a statutory conflict between a person's public responsibilities (which include membership on an EPA federal advisory committee) and private interests and activities, or the appearance of a loss of impartiality, as defined by federal regulation. The form may be viewed and downloaded through the “Ethics Requirements for Advisors” link on the SAB website at https://sab.epa.gov. This form should not be submitted as part of a nomination.

V. Khanna Johnston,
Deputy Director, Science Advisory Board Staff Office.

[FR Doc. 2023-23295 Filed 10-20-23; 8:45 am]

BILLING CODE 6560-50-P